DEPARTMENT OF TRANSPORTATION

Federal Railroad Administration

Environmental Impact Statement: DesertXpress High Speed Train Between Victorville, CA and Las Vegas, NV

AGENCY: Federal Railroad Administration (FRA), U.S. Department of Transportation (DOT).

ACTION: Notice of Intent to prepare an Environmental Impact Statement.

SUMMARY: The FRA is issuing this notice to advise the public that an Environmental Impact Statement (EIS) will be prepared for the proposed DesertXpress high-speed train project. The project includes passenger stations, a maintenance facility, and a new railroad line along the I-15 corridor between Victorville, California and Las Vegas, Nevada. FRA is issuing this notice to solicit public and agency input into the development of the scope of the EIS and to advise the public that outreach activities conducted by the FRA will be considered in the preparation of the EIS. Federal cooperating agencies for the EIS are the Surface Transportation Board (STB), the Federal Highway Administration (FHWA) and the Bureau of Land Management (BLM). Alternatives to be evaluated and analyzed in the EIS include (1) take no action (No-Project or No-Build); and, (2) construction of a privately financed steel-wheel-on-steel-rail high-speed train, including a proposed station in Victorville and a station in Las Vegas, and a maintenance facility in Victorville. Several alternative routings would be considered in the EIS.

DATES: Three scoping meetings will be held during July of 2006. Scoping meetings will be advertised locally and are scheduled for the following cities on the dates indicated below:

• July 25, 2006, Las Vegas Nevada at The White House, 3260 Joe Brown Drive time 5-8 pm.

• July 26, 2006, Barstow, California at the Ramada Inn, 1571 E. Main Street, time 12—2 pm, and

• July 26, 2006, Victorville, California at the San Bernardino County Fairgrounds Building 3, time 5-8 pm.

Persons interested in providing comments on the scope of the EIS should do so by August 15, 2006. Comments can be sent to Mr. David Valenstein at the FRA address identified below.

FOR FURTHER INFORMATION CONTACT: Mr. David Valenstein, Environmental Program Manager, Office of Railroad Development, Federal Railroad Administration, 1120 Vermont Avenue, (Mail Stop 20), Washington, DC 20590, (telephone 202/ 493-6368). Information and documents regarding the environmental review process will be made available through the FRA's Web site: http://www.fra.dot.gov at Passenger Rail, Environment, Current Reviews, DesertXpress.

SUPPLEMENTARY INFORMATION: The FRA will prepare an Environmental Impact Statement (EIS) for the proposed DesertXpress high-speed train project. The FRA is an operating administration of the U.S. Department of Transportation and is primarily responsible for railroad safety regulation. Federal cooperating agencies for the EIS are the Surface Transportation Board (STB), the Federal Highway Administration (FHWA) and the Bureau of Land Management (BLM). The BLM has approval authority over the use of public lands under their control. The FHWA has jurisdiction over the use and/or modification of land within the I-15 right of way. The STB has exclusive jurisdiction, pursuant to 49 U.S.C. 10501(b), over the construction, acquisition, operation and abandonment of rail lines, railroad rates and services and rail carrier consolidations and mergers. The construction and operation of the proposed DesertXpress high-speed train project is subject to STB's approval authority under 49 U.S.C. 10901. To the extent appropriate, the EIS will address environmental concerns raised by federal, state and local agencies during the EIS process.

Project Description: DesertXpress Enterprises, LLC (the project Applicant) proposes to construct and operate a privately financed interstate high-speed passenger train, with a proposed station in Victorville, California and a station in Las Vegas, Nevada, along a 200-mile corridor, within or adjacent to the I-15 freeway for about 170 miles and adjacent to existing railroad lines for about 30 miles.

The need for the project is directly related to the rapid increase in travel demand between Southern California and Las Vegas, coupled with the growth in population in the areas surrounding Victorville, Barstow, Primm and Las Vegas, which has resulted in substantial congestion along the I-15 freeway between Victorville and Las Vegas. Ridership is estimated to be 4.1 million round trips in the first full year of service. To accommodate this level of ridership, trains would operate from 6 a.m. to 10 p.m., daily, 365 days a year at 20 to 30 minute intervals during peak periods.

The project would involve construction of a fully grade-separated, dedicated double track passenger-only railroad along an approximately 200-mile corridor, from Victorville California to Las Vegas, Nevada. Where the railroad alignment would be within the I-15 freeway corridor, continuous concrete truck barriers, as well as American Railway Engineering and Maintenance of Way Association crash barriers at all supporting columns of bridges at freeway interchanges and overpasses would be provided. The project would include the construction of a passenger station, as well as maintenance, storage and operations facility in Victorville and one passenger station in Las Vegas.

The proposed Victorville Station would be located along the west side of I-15 between the two existing Stoddard Wells interchanges. The facilities directly associated with the Victorville station would occupy about 60 acres of land, and would have a parking capacity for up to 10,000 automobiles. Access to the Victorville station would be via the two existing Stoddard Wells Road Interchanges.

The Maintenance, Storage and Operations facility is proposed to be located in the City of Victorville on a site that lies within the Victorville Valley Economic Development Area. The facility would require approximately 50 acres and would include a fueling station, train washing facility, repair shop, parts storage, and operations center. It is estimated that approximately 400 employees would be based at this facility.

The Las Vegas passenger station would be located at one of three possible locations: (1) Near the south end of the Las Vegas Strip; (2) in the center section of the Strip; or (3) in downtown Las Vegas. A light maintenance, cleaning, and inspection facility would also be built near the Las Vegas station.

Alternatives: A No-Build alternative will be studied as the baseline for comparison with the proposed project. The No-Build Alternative represents the highway (I-15) and airport (McCarran) system physical characteristics and capacity as they exist at the time of the EIS (2006) with planned and funded improvements that will be in place at the time the project becomes operational. The project build alternatives have the same stations and maintenance facility. The railroad alignment between Victorville and Las Vegas can be divided into 6 distinct segments. Within the segments, several build alternatives are being considered as discussed below.

Segment 1: Victorville to Lenwood (south of Barstow, California): Alternative A would depart the Victorville Station in a south-westerly direction before turning north and generally following the existing BNSF Railway Company (BNSF) railroad corridor and Route 66 to a point just south of Barstow. Alternative B would depart the Victorville Station and head north generally following the west side of the I-15 corridor. The alignment would diverge from the I-15 corridor near Hodge Road and head northerly to a point just south of Barstow near the exiting BNSF railroad corridor. Alternative B would be approximately 6.8 miles shorter than Alternative A.

Segment 2: Lenwood (South of Barstow) to Yermo, California: From a point south of Barstow, the build alternative alignment would head north for about five miles, cross the Mojave River and turn east through the City of Barstow. Through Barstow the alignment would utilize an existing, but abandoned, former Atchison Topeka & Santa Fe railroad corridor along the north side of the Mojave River, for approximately three miles before reaching the vicinity of the I-15 / Old Highway 58 interchange on the eastside of Barstow. From this point the alignment would head east along the north side of I-15 corridor through the town of Yermo to a point just east of the agricultural inspection station on the I-15 Freeway.

Segment 3: Yermo to Mountain Pass: There are two alignment alternatives in this segment: Alternative A entirely within the median of the I-15 freeway; and Alternative B along the north side of the I-15 corridor.

Segment 4: Mountain Pass to Primm, Nevada: Alternative A would leave the I-15 freeway corridor and head south for approximately four miles before returning to the I-15 freeway corridor south of Primm. A portion of this alignment may encroach on the Mojave Desert Preserve, about one half mile south of the I-15 freeway. Alternative B would leave the I-15 freeway corridor and head north before returning to the I-15 freeway corridor south of Primm. A 4,000-foot long tunnel would be necessary for Alternative B.

Segment 5: Primm to Jean, Nevada: Alternative A would be entirely within the median of the I-15 freeway. Alternative B would continue along the east side of the I-15 freeway corridor between Primm and Jean.

Segment 6: Jean to Las Vegas, Nevada: There are three alternative alignments in this segment. Alternative A would continue in the median of the I-15 freeway into the Las Vegas passenger station. Alternative B would cross the I-15 freeway corridor from the east side to the west side and continue along the west side of the I-15 freeway corridor into the Las Vegas passenger station. Alternative C would diverge to the east and generally follow the existing Union Pacific railroad corridor into the Las Vegas passenger station. To reach the downtown Las Vegas passenger station Alternative A would leave the median of the I-15 freeway corridor near Oakey Boulevard and diverge to the east to follow the Union Pacific railroad corridor to Bonneville Street. Alternatives B and C would follow the west side of the I-15 freeway corridor and cross at Oakey Boulevard to the east to join the Union Pacific railroad corridor to Bonneville Street.

Scoping and Comments: FRA encourages broad participation in the EIS process during scoping and review of the resulting environmental documents. Comments and suggestions are invited from all interested agencies and the public at large to insure the full range of issues related to the proposed action and all reasonable alternatives are addressed and all significant issues are identified. In particular, FRA is interested in determining whether there are areas of environmental concern where there might be the potential for identifiable significant impacts. FRA invites and welcomes public agencies, communities and members of the public to advise the FRA of their environmental concerns, and to comment on the scope and content of the environmental information regarding the proposed project. Persons interested in providing comments on the scope of the EIS should send them to Mr. David Valenstein at the FRA address identified above by August 15, 2006.

Issued in Washington, DC, on July 11, 2006.
Mark E. Yachmetz,
Associate Administrator for Railroad Development.

[FR Doc. E6-11154 Filed 7-13-06; 8:45 am]

BILLING CODE 4910-06-P